DEPARTMENT OF HEALTH AND HUMAN SERVICES

Administration for Children and Families

Proposed Information Collection Activity; Comment Request

Title: Head Start Child and Family Experiences Survey (FACES).

OMB No.: 0970-0151.

Description: The Office of Planning, Research and Evaluation (OPRE), Administration for Children and Families (ACF), U.S. Department of Health and Human Services (HHS), is proposing to collect data for a new round of the Head Start Family and Child Experiences Survey (FACES). Featuring a “Modified Core Plus” Study design, FACES 2019 will provide data on a set of key indicators in Head Start Regions I-XI. While data collection for FACES 2019 will occur in Regions I-XI, there is a slightly different sample design and recruitment strategy for Regions I-X and Region XI (whose grants are awarded to tribal governments or consortiums of tribes). In fall 2019 and spring 2020, FACES will assess the school readiness skills of 2,400 Head Start children in Regions I-X and 800 children in Region XI, survey their parents, and ask their Head Start teachers to rate children's social and emotional skills. This sample will be drawn from 60 programs in Regions I-X and 22 programs in Region XI. In spring 2020 classroom observations of sampled programs will occur. In Regions I-X, the number of programs will increase from the 60 that are used to collect data on children's school readiness outcomes to 180 for the purpose of conducting observations in 720 Head Start classrooms. In Region XI, the program sample will remain at 22, and approximately 80 Head Start classroom observations will take place. Program director, center director, and teacher surveys will also be conducted in spring 2020 in Regions I-XI. In spring 2022, program level data collection will be repeated in Regions I-X only. If any plus studies are conducted, they will be conducted within the Core sample.

This notice is specific to the data collection activities needed to recruit Head Start programs and centers into FACES 2019. A future notice will provide information about data collection for the study. A nationally representative sample of Head Start programs and centers from Regions I-X and a representative sample of Head Start programs and centers from Region XI will be selected to participate in FACES 2019. From Regions I-X, the programs participating in the Core child-level data collection will be contacted and recruited for the study in spring 2019. In fall 2019, the remaining programs participating in classroom-level data collection will be contacted. All programs will be contacted a second time in fall 2021 to confirm their continued participation in the Core spring 2022 data collection. The programs from Region XI would be recruited a year earlier (i.e., spring 2018) given the increased amount of time to recruit programs in tribal communities and to obtain tribal council and/or tribal leadership approval.

The method of data collection for recruitment of all programs will include telephone conversations with program directors and on-site coordinators who serve as liaisons between the FACES study team and the Head Start centers. In Region XI, an additional recruitment telephone call with tribal leadership/tribal council will be required. All of these calls will inform program staff about the purpose of the study and will gather lists of centers in each program in order to compile the center sampling frame. The purpose of this data collection is to support the 2007 reauthorization of the Head Start program (Pub. L.110-134), which calls for periodic assessments of Head Start's quality and effectiveness.

Respondents: Head Start Program Directors and Staff, as well as tribal leadership.

Annual Burden Estimates
Instrument | Total number of respondents | Annual number of respondents | Number of responses per respondent | Average burden hours per response | Annual burden hours
Telephone script and recruitment information collection for program directors, Regions I-X | 230 | 77 | 3 | 1 | 231
Telephone script and recruitment information collection for program directors, Region XI | 30 | 10 | 2 | 1 | 20
Telephone script and recruitment information collection for on-site coordinators, Regions I-X | 230 | 77 | 3 | .75 | 173
Telephone script and recruitment information collection for on-site coordinators, Regions XI | 30 | 10 | 2 | .75 | 15

Estimated Total Annual Burden Hours: 439.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-22713 Filed 10-19-17; 8:45 am]

BILLING CODE 4184-22-P